Proclamation 8201 of October 31, 2007

National Diabetes Month, 2007

By the President of the United States of America

A Proclamation

Diabetes is a debilitating disease that affects millions of Americans of all ages and all walks of life. National Diabetes Month is an opportunity to raise awareness about risk factors, prevention, and treatment of this serious disease.

Diabetes is a chronic illness that leaves the body unable to produce or properly use insulin to maintain healthy blood glucose levels. The two most common forms of the disease that affect our citizens are Type 1 and Type 2 diabetes. Type 1 diabetes, once known as juvenile diabetes, is usually diagnosed in children and young adults who are unable to produce insulin and require daily medication. Type 2 diabetes, the most common form of the disease, is often attributed to lifestyle risk factors and can be controlled by a modified diet, regular physical activity, and medication. Americans can take steps to control the disease and lower the risk of complications such as heart disease, stroke, and kidney disease by maintaining healthy eating and exercise habits, and consulting with a doctor about diabetes testing.

My Administration is committed to providing better care for people living with diabetes and furthering efforts to find a cure. We have supported research initiatives and education programs that encourage healthy living, and we have also modified Medicare coverage to include diabetes screenings. This year, the National Institutes of Health estimates that more than $1 billion will be spent on diabetes research. By working together, we can help identify problems early, manage them before they grow worse, and help ensure more Americans live longer, healthier lives.

Throughout National Diabetes Month, we recognize the medical professionals, scientists, researchers, and all those whose efforts have made a positive difference in the fight against diabetes. By raising public awareness, we can help combat the effects of diabetes in our society and bring hope to children and families living with this disease.

NOW, THEREFORE, I, GEORGE W. BUSH, President of the United States of America, by virtue of the authority vested in me by the Constitution and laws of the United States, do hereby proclaim November 2007 as National Diabetes Month. I call upon all Americans to learn more about the risk factors and symptoms associated with diabetes and to observe this month with appropriate programs and activities.

IN WITNESS WHEREOF, I have hereunto set my hand this thirty-first day of October, in the year of our Lord two thousand seven, and of the Independence of the United States of America the two hundred and thirty-second.

[FR Doc. 07-5548

Filed 11-2-07; 8:53 am]

Billing code 3195-01-P